DEPARTMENT OF ENERGY

Federal Energy Regulatory Commission

[Docket No. CP01-431-000]

Great Lakes Gas Transport, LLC; Notice of Abandonment Application

August 28, 2001.

On August 22, 2001, Great Lakes Gas Transport, LLC (GLGT), P.O. Box 550, Hartville, Ohio 44632, filed an application in Docket No. CP01-431-000 pursuant to Sections 1(b), 1(c) and 7(b) of the Natural Gas Act (NGA) for an order permitting and approving GLGT to abandon facilities and services by sale to Dominion Transmission, Inc. (DTI), Dominion Field Services, Inc. (Field Services) and Hope Gas, Inc. dba Dominion Hope (Dominion Hope). GLGT further requests that the Commission determine that certain facilities to be sold by GLGT to Field Services will be gathering facilities and to Dominion Hope will be distribution facilities and that both will be non-jurisdictional and not subject to the Commission's jurisdiction under the NGA, all as more fully set forth in the application which is on file with the Commission and open to public inspection. This filing may be viewed on the web at http://www.ferc.gov using the “RIMS” link, select “Docket #” from the RIMS Menu and follow the instructions (please call (202)208-2222 for assistance).

Specifically, GLGT requests authorization to abandon by sale and to transfer all of its facilities to DTI, Field Services and Dominion Hope, including without limitation, authority to abandon all Points of Delivery which are served from the certificated and non-certificated facilities. The facilities and properties to be transferred are described in the June 11, 2001 Asset Purchase Agreement (Agreement), which is attached to the Application as Exhibit R. The Agreement provides for GLGT to convey all of its facilities, both jurisdictional and nonjurisdictional, to the purchasers for a total purchase price of $3,250,000. Consistent with the division of assets described herein, the purchase price will be allocated among the Dominion companies.

GLGT states that upon the sale and transfer of GLGT's facilities, GLGT will cease doing business and will no longer be a pipeline subject to the Commission's jurisdiction. GLGT requests authorization to abandon its existing FERC Gas Tariff and services, and to abandon and transfer all of its jurisdictional facilities to DTI, Field Services, and Dominion Hope. GLGT states it will convey its facilities that serve primarily a gathering function (including all of its facilities currently classified as gathering and certain facilities currently classified as jurisdictional transportation) to Field Services, a non-jurisdictional provider of gathering services. GLGT will convey the portion of its facilities that will continue to perform an interstate transportation function to DTI, an interstate pipeline regulated by this Commission. Finally, GLGT will convey its remaining facilities to Dominion Hope, a West Virginia local distribution company (LDC), for use as distribution facilities.

GLGT states that Field Services and DTI will take assignment of, and honor, all of GLGT's existing gas purchase and transportation contracts. The contracts to be assigned consist of a host of gas purchase contracts currently held by FirstEnergy Services, Corp. (an affiliate of GLGT) and three transportation agreements. The gas purchase contracts will be assigned to Field Services and the transportation agreements to DTI. Therefore, GLGT's existing customers will not be faced with any reduction or loss of service.

GLGT states that DTI will acquire the facilities that will continue to perform an interstate transportation function under its blanket authorization. Thus, these facilities will remain subject to this Commission's jurisdiction. GLGT requests a determination that, subsequent to the transfer described herein, all the other facilities will perform non-jurisdictional gathering and distribution functions that will not be subject to the Commission's jurisdiction. Thus, the proposed operation of these facilities by Field Services and Dominion Hope will not subject either of them to the Commission's jurisdiction as a regulated natural gas company or cause the rates and services provided through the facilities to become subject to the Commission's jurisdiction. GLGT states that Field Services and Dominion Hope will offer service on an open-access basis and with no undue discrimination in favor of their affiliates, and will be subject to the jurisdiction of State regulatory commissions.

Any questions regarding this application should be directed to Jeffery A. Bynum, Senior Vice President, Great Lakes Gas Transport, L.L.C. P.O. Box 550, Hartville, Ohio 44632, at (330) 877-6747.

There are two ways to become involved in the Commission's review of this abandonment. First, any person wishing to obtain legal status by becoming a party to the proceedings for this abandonment should, on or before September 7, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this abandonment. The Commission will consider these comments in determining the appropriate action to be taken, but the filing of a comment alone will not serve to make the filer a party to the proceeding. The Commission's rules require that persons filing comments in opposition to the abandonment provide copies of their protests only to the party or parties directly involved in the protest.

Persons who wish to comment only on the environmental review of this abandonment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying abandonment will be issued.

David P. Boergers,
Secretary.

[FR Doc. 01-22096 Filed 8-31-01; 8:45 am]

BILLING CODE 6717-01-P